DEPARTMENT OF THE INTERIOR

Geological Survey

Agency Information Collection: Comment Request

AGENCY: United States Geological Survey (USGS), Interior.

ACTION: Notice of a new collection.

SUMMARY: To comply with the Paperwork Reduction Act of 1995 (PRA), we are notifying the public that we will submit to OMB a new information collection (IC) described below for review and approval. As a part of our continuing effort to reduce paper work and respondent burden, we invite the general public and other Federal agencies to take this opportunity to comment on the paperwork burden of this collection.

DATES: You must submit comments on or before April 27, 2009.

ADDRESSES: Send your comments regarding this IC to Phadrea Ponds, Information Collections Clearance Officer, at U.S. Geological Survey, 2150-C Center Avenue, Fort Collins, CO 80525 (mail); (970) 226-9230 (fax); or pponds@usgs.gov (e-mail). Please reference Information Collection 1028-NEW, GAPSURVEY.

FOR FURTHER INFORMATION CONTACT: To request additional information about this IC, contact Joan Ratz by mail at U.S. Geological Survey, 2150-C Center Avenue, Fort Collins, CO 80526, or by telephone at (970) 226-9315.

SUPPLEMENTARY INFORMATION:

I. Abstract

The U.S. Geological Survey (USGS) will design and conduct a survey that will be used to evaluate the performance of its Gap Analysis Program (GAP). The information collected will provide information for the Program's annual performance plan as required by the Government Performance and Results ACT (GPRA). Scientists and staff in the Policy Analysis and Science Assistance Branch of the USGS will conduct the survey on-line. The only option for all respondents will be to complete the survey on-line.

Information from this survey will provide the GAP Program managers with scientifically sound data that can be used to: (1) Prepare strategic planning and performance documents, (2) measure user satisfaction, and (3) understand user needs. Additionally, this survey can target performance issues that relate to education and outreach, technology and data quality. Due to the nature of this collection, all identified respondents will have: (1) an active e-mail address and (2) skills in GIS and computer operations.

II. Data

OMB Control Number: None. This is a new collection.

Title: Gap Analysis Program (GAP) Evaluation: A Survey of National Users.

Type of Request: New.

Frequency of Collection: This is a one-time survey.

Respondent's Obligation: Voluntary.

Estimated Annual Number and Description of Respondents: Approximately 820 non-federal current and past users of the USGS Gap Analysis Program (GAP).

Estimated Total Annual Responses: 574 responses.

Estimated Time per Response: 22 minutes.

Annual Burden Hours: 197 hours.

Estimated Annual Reporting and Recordkeeping “Hour” Burden: We estimate the public reporting burden will average 22 minutes per response. This includes the time for reviewing instructions and completing the on-line survey.

III. Request for Comments

Estimated Annual Reporting and Recordkeeping “Non-Hour Cost”: We have not identified any “non-hour cost” burdens associated with this collection of information.

Public Disclosure Statement: The PRA (44 U.S.C. 3501, et seq.) provides that an agency may not conduct or sponsor and you are not required to respond to, a collection of information unless it displays a currently valid OMB control number.

Comments: We invite comments concerning this IC on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this IC to OMB for approval. The notice provided the required 60 day public comment period.

USGS Information Collection Clearance Officer: Phadrea Ponds, USGS Information Collection Clearance Officer.

Dated: February 16, 2009.
Sue Hasletine,
Associate Director for Biology.

[FR Doc. E9-3824 Filed 2-23-09; 8:45 am]

BILLING CODE 4311-AM-P